NATIONAL SCIENCE FOUNDATION

Notice of Permit Modification Received Under the Antarctic Conservation Act of 1978

AGENCY: National Science Foundation.

ACTION: Notice of permit modification request.

SUMMARY: The National Science Foundation (NSF) is required to publish a notice of requests to modify permits issued to conduct activities regulated under the Antarctic Conservation Act of 1978. This is the required notice of a requested permit modification.

DATES: Interested parties are invited to submit written data, comments, or views with respect to this permit application by February 26, 2024. Permit applications may be inspected by interested parties at the Permit Office, address below.

ADDRESSES: Comments should be addressed to Permit Office, Office of Polar Programs, National Science Foundation, 2415 Eisenhower Avenue, Alexandria, Virginia 22314.

FOR FURTHER INFORMATION CONTACT: Andrew Titmus, ACA Permit Officer, Office of Polar Programs, National Science Foundation, 2415 Eisenhower Avenue, Alexandria, VA 22314; 703-292-4479; or ACApermits@nsf.gov.

SUPPLEMENTARY INFORMATION: The National Science Foundation, as directed by the Antarctic Conservation Act of 1978 (Public Law 95-541), as amended by the Antarctic Science, Tourism and Conservation Act of 1996, has developed regulations for the establishment of a permit system for various activities in Antarctica and designation of certain animals and certain geographic areas as requiring special protection. The regulations establish such a permit system to designate Antarctic Specially Protected Areas.

Description of Permit Modification Requested: The Foundation issued a permit (ACA 2024-006) to Megan Cimino on August 14, 2023. The issued permit allows the permit holder and agents to enter Antarctic Specially Protected Areas (ASPAs), as well as engage in research activities that would result in Take, Harmful Interference, and Import into the USA. The permit holder and agents would conduct research as part of the Palmer Station Long-Term Ecological Research Program (Palmer LTER). The applicant would continue long term-research efforts to assess how annual environmental variability affects seabird diets, breeding success, growth rates, survival and recruitment, behavior, population trends, foraging success, and seasonal dispersal. The study species include the Adelie Penguin, Chinstrap Penguin, Gentoo Penguin, Brown Skua, South Polar Skua, Southern Giant Petrel, Blue-Eyed Shag, Kelp Gull, Snowy Sheathbill. All seabirds involved in this research would be released unharmed. Up to four timelapse cameras attached to poles on square bases anchored by rocks would be deployed to monitor penguin occupation patterns.

Now, the permit holder proposes a permit modification to include incidental mortality during research activities given the risk associated with various techniques used on different species. Most of the permitted research activities are unlikely to result in an incidental mortality (e.g., censusing, mapping, collecting fecal samples) while other activities are higher risk (e.g., stomach lavage, deploying trackers). Handling alone is unlikely to result in a mortality but due to the unpredictable nature of animal behavior and/or human error, handling could result in an injury and subsequent mortality. Further, the act of attaching tracking devices to penguins, skuas and petrels is unlikely to result in mortality, but the device could influence the animal's behavior, including aero and hydrodynamics. The permit holder requests the following number of incidental mortalities by species: Adelie Penguin (2), Chinstrap Penguin (2), Gentoo Penguin (2), Brown Skua (2), South Polar Skua (2), Southern Giant Petrel (2), Blue-Eyed Shag 1), Kelp Gull (1), Snowy Sheathbill (1).

Location: Palmer Station area, Antarctic Peninsula; ASPA 107, Dion Islands; ASPA 113, Litchfield Island; ASPA 115, Lagotellerie Island; ASPA 117, Avian Island; ASPA 139, Biscoe Point; ASPA 170, Charcot Island; and ASPA 176 Rosenthal Islands.

Dates: October 1, 2023—September 30, 2028.
Kimiko S. Bowens-Knox,
Program Analyst, Office of Polar Programs.

[FR Doc. 2024-01414 Filed 1-24-24; 8:45 am]

BILLING CODE 7555-01-P